ENVIRONMENTAL PROTECTION AGENCY

[EPA-HQ-OPP-2012-0270; FRL-9344-8]

Pesticide Program Dialogue Committee; Notice of Public Meeting

AGENCY: Environmental Protection Agency (EPA).

ACTION: Notice.

SUMMARY: Pursuant to the Federal Advisory Committee Act, EPA gives notice that a public meeting of the Pesticide Program Dialogue Committee (PPDC) is scheduled for May 3-4, 2012. A draft agenda is under development and will be posted by April 16, 2012. Four PPDC Workgroup meetings are also scheduled for May 2, 2012: Integrated Pest Management, Comparative Safety Statements, Public Health, and Pollinator Protection. The PPDC 21st Century Toxicology Workgroup is scheduled to meet on May 3, 2012. All meetings are free, open to the public, and no advance registration is required.

DATES: The PPDC meeting will be held on Thursday, May 3, 2012, from 9 a.m. to 5 p.m., and Friday, May 4, 2012, from 9 a.m. to noon. On Wednesday, May 2, 2012, PPDC Workgroup meeting schedules are as follows: Integrated Pest Management from 9 a.m. to 12:30 p.m.; Comparative Safety Statements from 1 p.m. to 4 p.m.; Public Health from 1 p.m. to 4 p.m.; and Pollinator Protection from 1 p.m. to 4 p.m. On Thursday, May 3, 2012, the PPDC 21st Century Toxicology Work group will meet from 11 a.m. to 2 p.m. Information regarding PPDC Workgroups is available on EPA's Web site at http://www.epa.gov/pesticides/ppdc/.

To request accommodation of a disability, please contact the person listed under FOR FURTHER INFORMATON CONTACT, preferably at least 10 days prior to the meeting, give EPA as much time as possible to process your request.

ADDRESSES: The PPDC and Workgroup meetings will be held at EPA's location at 1 Potomac Yard South, 2777 South Crystal Drive, Arlington, VA. The PPDC meeting will be held in the lobby-level Conference Center, as will the Integrated Pest Management and Pollinator Protection Workgroup meetings. The Comparative Safety Statements Workgroup meeting will be held in room South 4370. The Public Health Workgroup meeting will be held in room North 4830. The 21st Century Toxicology Workgroup meeting will be held in room North 4830. EPA's Potomac Yard South building is approximately one mile from the Crystal City Metro Station.

FOR FURTHER INFORMATION CONTACT: Margie Fehrenbach, Office of Pesticide Programs (7501P), Environmental Protection Agency, 1200 Pennsylvania Ave. NW., Washington, DC 20460-0001; telephone number: (703) 308-4775; fax number: (703) 308-4776; email address: fehrenbach.margie@epa.gov.

SUPPLEMENTARY INFORMATION:

I. General Information

A. Does this action apply to me?

This action is directed to the public in general, and may be of particular interest to persons who work in agricultural settings or persons who are concerned about implementation of the Federal Insecticide, Fungicide, and Rodenticide Act (FIFRA); the Federal Food, Drug, and Cosmetic Act (FFDCA); the amendments to FIFRA and FFDCA by the Food Quality Protection Act (FQPA) of 1996; the Pesticide Registration Improvement Act; and the Endangered Species Act. Potentially affected entities may include, but are not limited to: Agricultural workers and farmers; pesticide industry and trade associations; environmental, consumer, and farm worker groups; animal welfare organizations; pesticide users and growers; pest consultants; State, local and Tribal governments; academia; public health organizations; food processors; and the public. If you have questions regarding the applicability of this action to a particular entity, consult the person listed under FOR FURTHER INFORMATION CONTACT.

B. How can I get copies of this document and other related information?

EPA has established a docket for this action under docket ID number EPA-HQ-OPP-2012-0270. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

A draft agenda is being developed and will be posted by April 16, 2012, on EPA's Web site at: http://www.epa.gov/pesticides/ppdc/.

II. Background

EPA's Office of Pesticide Programs (OPP) is entrusted with the responsibility to help ensure the safety of the American food supply, the education and protection from unreasonable risk of those who apply or are exposed to pesticides occupationally or through use of products, and general protection of the environment and special ecosystems from potential risks posed by pesticides.

The Charter for EPA's Pesticide Program Dialogue Committee (PPDC) was established under the Federal Advisory Committee Act (FACA), Public Law 92-463, in September 1995, and has been renewed every 2 years since that time. The purpose of PPDC is to provide advice and recommendations to the EPA Administrator on issues associated with pesticide regulatory development and reform initiatives, evolving public policy and program implementation issues, and science issues associated with evaluating and reducing risks from use of pesticides. It is determined that PPDC is in the public interest in connection with the performance of duties imposed on the Agency by law. The following sectors are represented on the PPDC: Pesticide industry and trade associations; environmental/public interest, consumer, and animal rights groups; farm worker organizations; pesticide user, grower, and commodity groups; Federal and State/local/Tribal governments; the general public; academia; and public health organizations.

Copies of the PPDC Charter are filed with appropriate committees of Congress and the Library of Congress and are available upon request.

III. How can I request to participate in this meeting?

PPDC meetings are open to the public and seating is available on a first-come basis. Persons interested in attending do not need to register in advance of the meeting. Comments may be made during the public comment session of each meeting or in writing to the address listed under FOR FURTHER INFORMATION CONTACT.

List of Subjects

Environmental protection, Agricultural workers, Agriculture, Chemicals, Endangered species, Foods, Integrated Pest Management, Pesticide labels, Pesticides and pests, Pollinator protection, Public health, 21st Century toxicology.

Dated: April 5, 2012.
Steven Bradbury,
Director, Office of Pesticide Programs.

[FR Doc. 2012-8926 Filed 4-17-12; 8:45 am]

BILLING CODE 6560-50-P